DEPARTMENT OF STATE

[Public Notice 4322]

Bureau of Educational and Cultural Affairs Request for Grant Proposal: Middle School Social Studies Pre-Service Education Curriculum Development Project for Azerbaijan

SUMMARY: The Office of Global Educational Programs of the Bureau of Educational and Cultural Affairs in the Department of State announces an open competition for an assistance award to support planning, implementing and evaluating a curriculum development project for the pre-service training of middle school-level social studies teachers in Azerbaijan. Public and private non-profit organizations meeting the provisions described in IRS regulation 26 CFR 1.501(c) may submit proposals to cooperate with the Bureau in the administration of a three-year project to support the development and implementation of a teacher training curriculum that emphasizes new teaching methods and delivery mechanisms for the pre-service training of middle school-level social studies teachers in Azerbaijan.

Overview and Project Objectives

Program Information

Overview: This project is designed to assist educators in Azerbaijan to develop pre-service teacher training courses that will lead to the improvement of social science teaching at the middle school level in Azerbaijan. The rationale for this project is that by introducing more interactive, student-centered teaching practices tied to relevant social studies coursework in Azerbaijan, educators will be preparing students to participate more actively as citizens in a democratic society. Although prior efforts in Azerbaijan have supported the training of in-service teachers in new approaches to classroom teaching, this project will introduce these approaches to pre-service teachers at an earlier, more formative stage in their careers. As part of the effort to promote cooperative relationships within a democratic society, the project should also prepare future teachers to interact productively with other members of the educational community including parents, administrators, students, and persons responsible for educational oversight.

Project Objectives

Proposals should outline a practical strategy to assist faculty at pedagogical institutes to develop new curricular and instructional materials for the pre-service training of social studies teachers and to pilot test and disseminate the curriculum in pedagogical institutes and teacher training centers throughout Azerbaijan. (Please see the “Project Objectives, Goals and Implementation” (POGI) for information on the pedagogical institutes in Azerbaijan). Proposals that introduce “standards-based” curriculum development approaches are encouraged. For examples of standards-based curriculum see the National Council for Accreditation of Teacher Education (http://www.ncate.org) or the National Council for the Social Studies (http://www.socialstudies.org). This project will include the following three phases of activity: Recruiting and selecting Azerbaijan participants; coordinating a U.S.-based training workshop; and testing and publishing the curricular materials. (Full details for each project phase are contained in the POGI).

Selection of Topics

Applicants should suggest in their proposal the process for selecting the specific topics to be developed by the Azerbaijan participants. Final determination of appropriate topics will be made in consultation with the Azerbaijan project participants before the start of the U.S. based curriculum development workshop. Proposals should include a detailed plan for collaboration with local Azerbaijan pedagogical institutes and should include a recruitment plan that encourages participation by faculty from all six major pedagogical institutes.

Proposals should demonstrate an understanding of the issues confronting social studies education in Azerbaijan as well as expertise in pre-service teacher education and curriculum development. The Bureau encourages applicants with the ability to coordinate and to monitor locally the implementation of all Azerbaijan-based, Phase III project activities (pilot testing, teacher training, dissemination and publishing).

Guidelines

Project Planning and Implementation

Grant Duration. Grant activities should begin on or around August 1, 2003 and should last approximately thirty-six months.

Planning. In Phase I, the grantee will undertake work in Azerbaijan over a period of 3-6 months to prepare for the subsequent phases of the project. The U.S. grantee organization will conduct a planning trip to Baku for initial consultations. The planning trip should not exceed two weeks in length. The U.S. grantee organization will communicate with local pre-service educators or representatives of a local NGO active in the education sector and the Public Affairs Section of the U.S. Embassy in Baku to coordinate recruitment and selection of Azerbaijan educators to serve on a curriculum development team. The U.S. applicant should specify in the proposal an NGO or other group of Azerbaijan educators with whom the U.S. applicant proposes to work. After the curriculum team has been selected, in consultation with specialists from the grantee organization and local Azerbaijan pre-service educators, the members of the curriculum development team will assess existing pre-service education curricula, middle school social studies curricula and related teaching materials already used in Azerbaijan, and U.S. materials in the context of the needs of pre-service teachers in Azerbaijan. Based on the analysis of this information, the curriculum development team will select the topics to be covered in the curriculum to be developed.

During the planning stage the grantee organization should consult with representatives of the Azerbaijan Ministry of Education (See POGI for contact information) to negotiate the following assistance to all Azerbaijan participants: (1) Paid leave time for the Azerbaijan participants during their stays in the U.S. and during any subsequent training work in Azerbaijan; and (2) Facilitation of the logistics of training sessions to be conducted in Azerbaijan through appropriate signed agreements with the Ministry of Education or local education authorities.

Project Implementation. In Phase II of this project, members of the curriculum development team will spend approximately 10-12 weeks in the U.S. attending a curriculum development workshop organized by the U.S. grantee; observing relevant aspects of the U.S. educational system; and drafting curriculum and training materials in consultation with U.S. specialists. The grantee organization will develop workshop activities designed to introduce the Azerbaijan team to U.S. education specialists with appropriate expertise in pre-service teacher training, social studies education and curriculum development. Applicants should develop a timetable that incorporates significant time for writing curricular materials. The workshop should include field experiences that are relevant to the materials being produced (such as visits to schools, consultations with U.S. teachers and mentored attendance at professional meetings).

In Phase III of each project, the grantee organization will plan and implement a program for testing, revising and publishing the materials developed in Phase II. Phase III project activities should emphasize outreach and training of local educators by the Azerbaijan curriculum development team members.

Budget Guidelines

The Bureau anticipates awarding one grant in a total amount not to exceed $245,000 to support program and administrative costs required to implement this project. The Bureau encourages applicants to provide maximum levels of cost sharing and funding from private sources in support of its programs. Bureau grant guidelines require that organizations with less than four years experience in conducting international exchanges are limited to $60,000 in Bureau funding. Therefore, organizations with less than four years of experience in conducting international exchanges are ineligible to apply under this competition. Applicants must submit a comprehensive budget for the entire program.

There must be a summary budget as well as breakdowns reflecting both administrative and program budgets. Applicants may provide separate sub-budgets for each program component, phase, location, or activity to provide clarification. The summary and detailed project and administrative budget should be accompanied by a narrative, which provides justification for the amount needed.

Allowable costs for the program include the following:

(1) Administrative costs, including salaries and benefits, of grantee organization.

(2) Program costs, including general program costs and program costs for each participant from Azerbaijan in the U.S. based curriculum development workshop and the Azerbaijan-based pilot-testing activities. Please refer to the POGI for complete budget guidelines and formatting instructions.

Announcement Title and Number: All correspondence with the Bureau concerning this RFGP should reference the above title and number ECA/A/S/U-03-16.

FOR FURTHER INFORMATION CONTACT: The Humphrey Fellowships and Institutional Linkages Branch, Office of Global Educational Programs, U.S. Department of State, 301 4th Street, SW., Washington, DC 20547, telephone: 202-619-5289; Fax: 202-401-1433; or mwestbro@pd.state.gov, to request a solicitation package. The Solicitation Package contains detailed award criteria, required application forms, specific budget instructions, and standard guidelines for proposal preparation. Please specify Bureau Program Officer Marie Westbrook Grant on all other inquiries and correspondence.

Please read the complete Federal Register announcement before sending inquiries or submitting proposals. Once the RFGP deadline has passed, Bureau staff may not discuss this competition with applicants until the proposal review process has been completed.

To Download a Solicitation Package Via Internet: The entire Solicitation Package may be downloaded from the Bureau's Web site at http://exchanges.state.gov/education/RFGPs. Please read all information before downloading.

Deadline for Proposals: All proposal copies must be received by the Bureau of Educational and Cultural Affairs by 5 p.m. Washington, DC time on Friday May 2, 2003. Faxed documents will not be accepted at any time. Documents postmarked the due date but received on a later date will not be accepted. Each applicant must ensure that the proposals are received by the above deadline.

Applicants must follow all instructions in the Solicitation Package. The original and eight copies of the application should be sent to: U.S. Department of State, SA-44, Bureau of Educational and Cultural Affairs, Ref.: ECA/A/S/U-03-16, Program Management, ECA/EX/PM, Room 534, 301 4th Street, SW., Washington, DC 20547.

Applicants must also submit the “Executive Summary” and “Proposal Narrative” sections of the proposal on a 3.5″ diskette, formatted for DOS. These documents must be provided in ASCII text (DOS) format with a maximum line length of 65 characters. The Bureau will transmit these files electronically to the Public Affairs section at the US Embassy for its review, with the goal of reducing the time it takes to get embassy comments for the Bureau's grants review process.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity’ section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.”

Public Law 106-113 requires that the governments of the countries described above do not have inappropriate influence in the selection process. Proposals should reflect advancement of these goals in their program contents, to the full extent deemed feasible.

Adherence to All Regulations Governing the J Visa

The Bureau of Educational and Cultural Affairs is placing renewed emphasis on the secure and proper administration of Exchange Visitor (J visa) Programs and adherence by grantees and sponsors to all regulations governing the J visa. Therefore, proposals should demonstrate the applicant's capacity to meet all requirements governing the administration of Exchange Visitor Programs as set forth in 22 CFR 6Z, including the oversight of Responsible Officers and Alternate Responsible Officers, screening and selection of program participants, provision of pre-arrival information and orientation to participants, monitoring of participants, proper maintenance and security of forms, record-keeping, reporting and other requirements. ECA or the Grantee (program office: please specify which) will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547, Telephone: (202) 401-9810, FAX: (202) 401-9809.

Review Process

The Bureau will acknowledge receipt of all proposals and will review them for technical eligibility. Proposals will be deemed ineligible if they do not fully adhere to the guidelines stated herein and in the Solicitation Package. The program office, as well as the Public Affairs Section overseas, where appropriate will review all eligible proposals. Eligible proposals will be forwarded to panels of Bureau officers for advisory review. Proposals may also be reviewed by the Office of the Legal Adviser or by other Department elements. Final funding decisions are at the discretion of the Department of State's Assistant Secretary for Educational and Cultural Affairs. Final technical authority for assistance awards (grants or cooperative agreements) resides with the Bureau's Grants Officer.

Review Criteria

Technically eligible applications will be competitively reviewed according to the criteria stated below. These criteria are not rank ordered and all carry equal weight in the proposal evaluation:

1. Quality of the program idea: Proposals should exhibit originality, substance, precision, and relevance to the Bureau's mission and responsiveness to the objectives and guidelines stated in this solicitation. Proposals should demonstrate substantive expertise in curriculum development, social studies education and pre-service teacher training.

2. Creativity and feasibility of program plan: A detailed agenda and relevant work plan should demonstrate substantive undertaking, logistical capacity, and a creative utilization of resources and relevant professional development opportunities. The agenda and work plan should be consistent with the program overview and guidelines described in this solicitation.

3. Ability to achieve project objectives: Objectives should be reasonable, feasible, and flexible. Proposals should clearly demonstrate how the institution will meet the program's objectives and plan.

4. Support of Diversity: Proposals should demonstrate substantive support of the Bureau's policy on diversity. Achievable and relevant features should be cited in both program administration (selection of participants, program venue and program evaluation) and program content (orientation and wrap-up sessions, program meetings, resource materials and follow-up activities). The proposal should demonstrate an understanding of the specific diversity needs in Azerbaijan and strategies for addressing these needs in terms of the project goals.

5. Institutional capacity and record: Proposed personnel and institutional resources should be adequate and appropriate to achieve the goals of the project. Proposals should demonstrate an institutional record of successful exchange programs, including responsible fiscal management and full compliance with all reporting requirements for past Bureau grants as determined by the grants staff. The Bureau will consider the past performance of prior recipients and the demonstrated potential of new applicants.

6. Project Evaluation: Proposals should include a plan to evaluate the activity's success, both as the activities unfold and at the end of the program. A draft survey questionnaire or other technique plus description of a methodology to use to link outcomes to original project objectives are recommended. Successful applicants will be expected to submit intermediate program and financial reports after each project component is concluded or quarterly, whichever is less frequent.

7. Follow-on Activities: Proposals should provide a plan for continued follow-on activity (without Bureau support), which ensures that Bureau supported programs are not isolated events.

8. Cost-effectiveness: The overhead and administrative components of the proposal, including salaries and honoraria, should be kept as low as possible. All other items should be necessary and appropriate and should reflect a commitment to pursuing project objectives. Proposals should maximize cost sharing through other private sector support as well as institutional direct funding contributions.

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through the Freedom for Russia and Emerging Eurasian Democracies and Open Markets Support Act of 1993 (FREEDOM Support Act). Programs and projects must conform to Bureau requirements and guidelines outlined in the Solicitation Package. Bureau projects and programs are subject to the availability of funds.

Notice

The terms and conditions published in this RFGP are binding and may not be modified by any Bureau representative. Explanatory information provided by the Bureau that contradicts published language will not be binding.

Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: March 17, 2003.
C. Miller Crouch,
Principal Deputy Assistant Secretary, Bureau of Educational and Cultural Affairs, Department of State.

[FR Doc. 03-7348 Filed 3-26-03; 8:45 am]

BILLING CODE 4710-05-P